DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Shaan F. Munjee, M.S., Wake Forest University School of Medicine: Based on the report of an investigation conducted by the Wake Forest University School of Medicine (WFUSM) and additional analysis conducted by ORI in its oversight review, the U.S. Public Health Service (PHS) found that Shaan F. Munjee, M.S., former research fellow, Department of Cancer Biology at WFUSM, engaged in scientific misconduct by falsifying and fabricating data in research supported by National Institute of Diabetes and Digestive and Kidney Diseases (NIDDK), National Institutes of Health (NIH), grants 5 R29 DK52623-03 and 5 R29 DK52623-04, “PTHRP and prostate growth.”

Specifically, PHS found that Ms. Munjee falsified data relating to the signaling of protein kinase in prostate cancer cell lines. From March 2000 through October 2000, Ms. Munjee falsified and fabricated data in her notebook from experiments to misrepresent her productivity and the significance of her findings. Ms. Munjee reported the falsified and fabricated data in: (1) Laboratory group meetings, a journal club, and a Cancer Biology retreat within WFUSM; (2) NIH grant application 5 R29 DK52623-04, “PTHRP and prostate growth'; and (3) an abstract submitted to the American Association for Cancer Research. Given the extensive nature of Ms. Munjee's data falsification and fabrication, none of her research can be considered reliable. Her actions adversely and materially affected the laboratory's ongoing research in prostate cancer by causing an unproductive avenue of research to be pursued and by preventing the principal investigator from submitting a competitive renewal application for a NIH grant. No publications required correction or retraction.

Ms. Munjee has entered into a Voluntary Exclusion Agreement in which she has voluntarily agreed for a period of three (3) years, beginning on December 17, 2001:

(1) To exclude herself from any contracting or subcontracting with any agency of the United States Government and from eligibility for, or involvement in, nonprocurement transactions (e.g., grants and cooperative agreements) of the United States Government as defined in 45 CFR Part 76 (Debarment Regulations); and

(2) to exclude herself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852, (301) 443-5330.

Chris B. Pascal,
Director, Office of Research Integrity.

[FR Doc. 02-25 Filed 1-2-02; 8:45 am]

BILLING CODE 4150-31-P